DEPARTMENT OF ENERGY

Federal Energy Regulatory Commission

Combined Notice of Filings

Take notice that the Commission has received the following Natural Gas Pipeline Rate and Refund Report filings:

Filings in Existing Proceedings

Docket Numbers: PR22-18-000.

Applicants: Southern California Gas Company.

Description: Submits tariff filing per 284.123(b), (e)+: Offshore_Delivery_Service_Rate_Revision_January_2022 to be effective 1/19/2022.

Filed Date: 1/19/2022.

Accession Number: 20220119-5106.

Comments Due: 5 p.m. ET 2/9/22.

284.123(g) Protests Due: 5 p.m. ET 3/21/22.

Docket Numbers: RP22-492-000.

Applicants: Southern LNG Company, L.L.C.

Description: § 4(d) Rate Filing: Dredging Surcharge Cost Adjustment—2022 to be effective 3/1/2022.

Filed Date: 1/20/22.

Accession Number: 20220120-5024.

Comment Date: 5 p.m. ET 2/1/22.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Debbie-Anne A. Reese,
Deputy Secretary.

[FR Doc. 2022-01515 Filed 1-25-22; 8:45 am]

BILLING CODE 6717-01-P